DEPARTMENT OF EDUCATION

Overview Information

Race to the Top Fund Assessment Program

Catalog of Federal Domestic Assistance (CFDA) Numbers: 84.395B (Comprehensive Assessment Systems grants) and 84.395C (High School Course Assessment Programs grants).

AGENCY: Office of Elementary and Secondary Education, Department of Education.

ACTION: Notice inviting applications for new awards for fiscal year (FY) 2010; correction.

SUMMARY: On April 9, 2010, the Department of Education published in the Federal Register (75 FR 18171) a notice inviting applications for new awards for FY 2010 (NIA) for the Race to the Top Fund Assessment Program. This notice makes two corrections to the April 9 NIA.

FOR FURTHER INFORMATION CONTACT: James Butler, U.S. Department of Education, 400 Maryland Avenue, SW., room 3C108, Washington, DC 20202-6400. Telephone: (202) 453-7246 or by e-mail: racetothetop.assessment@ed.gov.

If you use a telecommunications device for the deaf (TDD), call the Federal Relay Service (FRS), toll free, at 1-800-877-8339.

Individuals with disabilities can obtain this document in an accessible format (e.g., braille, large print, audiotape, or computer diskette) on request to the contact listed in this section.

SUPPLEMENTARY INFORMATION:

Correction

On page 18178, we provided a mailing address, telephone number, and fax number for the Education Publications Center (ED Pubs), from which prospective applicants can obtain an application package for either grant category under the Race to the Top Fund Assessment Program competition. The mailing address and fax number that we provided were incorrect. To correct these errors, the Department makes the following corrections to the April 9 NIA:

On page 18178, in the third column, under the heading

A. Address To Request Application Package:

1. Correct the third sentence to read: “To obtain a copy from ED Pubs, write, fax or call the following: Education Publications Center, P.O. Box 22207, Alexandria, VA 22304.”

2. Correct the fifth sentence to read: “FAX: (703) 605-6794.”

Program Authority: American Recovery and Reinvestment Act of 2009, Division A, Section 14006, Public Law 111-5.

Electronic Access to This Document

You may view this document, as well as all other Department of Education documents published in the Federal Register, in text or Adobe Portable Document Format (PDF) on the Internet at the following site: http://www.ed.gov/news/fedregister/index.html. To use PDF you must have Adobe Acrobat Reader, which is available free at this site.

Note: The official version of this document is the document published in the Federal Register. Free Internet access to the official edition of the Federal Register and the Code of Federal Regulations is available on GPO Access at: http://www.gpoaccess.gov/nara/index.html.

Dated: May 25, 2010.
Thelma Meléndez de Santa Ana,
Assistant Secretary for Elementary and Secondary Education.

[FR Doc. 2010-12953 Filed 5-27-10; 8:45 am]

BILLING CODE 4000-01-P